INTERNATIONAL TRADE COMMISSION

[Investigations Nos. 731-TA-951-952 (Preliminary)]

Blast Furnace Coke From China and Japan

Determinations

On the basis of the record ¹ developed in the subject investigations, the United States International Trade Commission (Commission) determines,² pursuant to section 733(a) of the Tariff Act of 1930 (19 U.S.C. 1673b(a)) (the Act), that there is no reasonable indication that an industry in the United States is materially injured or threatened with material injury, or that the establishment of an industry in the United States is materially retarded, by reason of imports from China and Japan of blast furnace coke, provided for in subheading 2704.00.0025 of the Harmonized Tariff Schedule of the United States, that are alleged to be sold in the United States at less than fair value (LTFV).

¹ The record is defined in sec. 207.2(f) of the Commission's Rules of Practice and Procedure (19 CFR 207.2(f)).

² Commissioners Lynn M. Bragg and Marcia E. Miller dissenting. Vice Chairman Deanna Tanner Okun not participating.

Background

On June 29, 2001, a petition was filed with the Commission and the United States Department of Commerce (Commerce) by the Committee for Fair Coke Trade,³ and the United Steelworkers of America, AFL-CIO, Pittsburgh, PA, alleging that an industry in the United States is materially injured or threatened with material injury by reason of LTFV imports of blast furnace coke from China and Japan. Accordingly, effective June 29, 2001, the Commission instituted antidumping duty investigations Nos. 731-TA-951-952 (Preliminary).

³ Members of the committee are: Acme Steel Co., Chicago, IL; DTE Energy Services Inc., Ann Arbor, MI; Koppers Industries, Inc., Pittsburgh, PA; and Shenango Inc., Pittsburgh, PA.

Notice of the institution of the Commission's investigations and of a public conference to be held in connection therewith was given by posting copies of the notice in the Office of the Secretary, U.S. International Trade Commission, Washington, DC, and by publishing the notice in the Federal Register of July 6, 2001 (66 FR 35669). The conference was held in Washington, DC, on July 20, 2001, and all persons who requested the opportunity were permitted to appear in person or by counsel.

The Commission transmitted its determinations in these investigations to the Secretary of Commerce on August 13, 2001. The views of the Commission are contained in USITC Publication 3444 (August 2001), entitled Blast Furnace Coke From China and Japan: Investigations Nos. 731-TA-951-952 (Preliminary).

Issued: August 24, 2001.
By order of the Commission.
Donna R. Koehnke,
Secretary.

[FR Doc. 01-21801 Filed 8-28-01; 8:45 am]

BILLING CODE 7020-02-P